DEPARTMENT OF JUSTICE

Office of Justice Programs

[OJP (NIJ) Docket No. 1632]

Interview Room Recording System Standard and License Plate Reader Standard Workshops

AGENCY: National Institute of Justice, Department of Justice.

ACTION: Notice of the Interview Room Recording System Standard and License Plate Reader Standard Workshops.

SUMMARY: The National Institute of Justice (NIJ) and the International Association of Chiefs of Police (IACP) are hosting two workshops in conjunction with the 120th Annual IACP Conference and Exposition in Philadelphia, PA. The focus of the workshops is the development of NIJ performance standards for Interview Room Recording Systems and License Plate Readers used by criminal justice agencies. Sessions are intended to inform manufacturers, test laboratories, certification bodies, and other interested parties of these standards development efforts. These workshops are being held specifically to discuss recent progress made toward the standards and to receive input, comments, and recommendations.

Space is limited at each workshop, and as a result, only 50 participants will be allowed to register for each session. We request that each organization limit their representatives to no more than two per organization. Exceptions to this limit may occur, should space allow. Participants planning to attend are responsible for their own travel arrangements.

DATES: Both workshops will be held on Saturday, October 19, 2013. The License Plate Reader standard session will take place from 2:00 p.m. to 3:00 p.m. The Interview Room Recording System standard session will take place from 3:00 p.m. to 4:00 p.m.

ADDRESSES: Pennsylvania Convention Center, 1101 Arch Street, Philadelphia, PA 19107, Room 103A.

FOR FURTHER INFORMATION CONTACT: For information about the NIJ Interview Room Recording System or License Plate Reader standards under development, please contact Mark Greene, by telephone at (202) 307-3384 [Note: this is not a toll-free telephone number], or by email at mark.greene2@usdoj.gov. To RSVP for the workshops, please contact Michael Fergus at fergus@theiacp.org. For general information about NIJ standards, please visit http://www.nij.gov/standards or http://www.justnet.org/standards.

Gregory K. Ridgeway,
Acting Director, National Institute of Justice.

[FR Doc. 2013-23298 Filed 9-24-13; 8:45 am]

BILLING CODE 4410-18-P